ENVIRONMENTAL PROTECTION AGENCY

[FRL—6711-5]

Notice of Scientific and Technological Achievement Awards Subcommittee—Closed Meeting

AGENCY: Environmental Protection Agency (EPA).

ACTION: Notice.

SUMMARY: An ad hoc Subcommittee of the Science Advisory Board will meet at the U.S. Environmental Protection Agency (EPA), Washington, DC, on June 22-23, 2000. Pursuant to section 10(d) of the Federal Advisory Committee Act (FACA), 5 U.S.C. app. 2, and section (c)(6) of the Government in the Sunshine Act, 5 U.S.C. 552b(c)(6), EPA has determined that the meeting will be closed to the public. The purpose of the meeting is to recommend to the Assistant Administrator of the Office of Research and Development (ORD) the recipients of the Agency's 1999 Scientific and Technological Achievement Cash Awards. These awards are established to honor and recognize EPA employees who have made outstanding contributions in the advancement of science and technology through their research and development activities, as exhibited in publication of their results in peer reviewed journals. In making these recommendations, including the actual cash amount of each award, the Agency requires full and frank advice from the Science Advisory Board. This advice will involve professional judgments on the relative merits of various employees and their respective work. Such personnel issues, where disclosure would constitute an unwarranted invasion of personal privacy, are protected from disclosure by section (c)(6) of the Government in the Sunshine Act, 5 U.S.C. 552b(c)(6). In accordance with the provisions of the Federal Advisory Committee Act, minutes of the meeting will be kept for Agency and Congressional review.

FOR FURTHER INFORMATION CONTACT: Mr. Robert Flaak, Team Leader, Committee Operations Staff, Science Advisory Board (1400A), U.S. Environmental Protection Agency, 1200 Pennsylvania Ave, NW, Washington, DC 20460, telephone: (202) 564-4546 or e-mail at: flaak.robert@epa.gov.

Dated: June 1, 2000.
Carol M. Browner,
Administrator.

[FR Doc. 00-14460 Filed 6-6-00; 8:45 am]

BILLING CODE 6560-50-P